DEPARTMENT OF THE INTERIOR

Bureau of Land Management

[CA-310-1820-PH]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The meeting will be held Thursday and Friday, January 22 and 23, 2004, in the Conference Room of the Bureau of Land Management's Surprise Field Office, 602 Cressler St., Cedarville, California. On Jan. 22, the meeting begins at noon and adjourns for the day at 5 p.m. On January 23, the meeting begins at 8 a.m. and ends at noon. Time for public comment will be set aside at 11 a.m. January 23.

FOR FURTHER INFORMATION CONTACT: Tim Burke, Field Manager, BLM Alturas Field Office, 708 West 12th St., Alturas, CA, (530) 233-4666; or BLM Public Affairs Officer Joseph J. Fontana, telephone (530) 252-5332.

SUPPLEMENTARY INFORMATION: The 15-member council advises the Secretary of the Interior, through the BLM, on a variety of planning and management issues associated with public land management in Northeast California and Northwest Nevada. At this meeting, agenda topics will include development of a drought policy for the Alturas, Eagle Lake and Surprise field offices, pre-scoping for development of a western juniper management strategy, land use planning and an update on a proposed conservation easement for the Kramer Ranch. The RAC will also hear status reports from the managers of the Eagle Lake, Alturas and Surprise field offices. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: November 14, 2003.
Joseph J. Fontana,
Public Affairs Officer.

[FR Doc. 03-28974 Filed 11-19-03; 8:45 am]

BILLING CODE 4310-40-P